DEPARTMENT OF AGRICULTURE

Rural Business-Cooperative Service

Notice of Contract Proposals (NOCP) for the Advanced Biofuels Payment Program

AGENCY: Rural Business-Cooperative Service, United States Department of Agriculture (USDA).

ACTION: Notice.

SUMMARY: This Notice of Contract Proposals announces the acceptance of applications and the availability of $98.6 million to make payments to advanced biofuel producers for the production of eligible advanced biofuels. Of the $98.6 million, $68.6 million will be available for Fiscal Year 2013 production and the remainder of approximately $30 million is for payments for production in prior fiscal years. This funding for Fiscal Year 2013 is in accordance with The Consolidated and Further Continuing Appropriations Act, 2013, Public Law 113-6.

DATES: Applications for participating in the Advanced Biofuel Payment Program for Fiscal Year 2013 were accepted from October 1, 2012, through October 31, 2012, in accordance with 7 CFR 4288, Subpart B, section 4288.120 (b). In addition, applications received by July 11, 2013 will be considered for Fiscal Year 2013 funds. Producers applying after June 11, 2013 will not be paid for payment requests submitted after the payment request timeframe. Payment requests are required to be submitted in accordance with 7 CFR 4288, Subpart B, section 4288.130(d). The Biofuel Payment Program Annual Application, Form RD 4288-1, must be submitted prior to or with the Advanced Biofuel Payment Program—Payment Request, Form RD 4288-3.

ADDRESSES: See the SUPPLEMENTARY INFORMATION for addresses concerning applications for the Advanced Biofuel Payment Program for Fiscal Year 2013 funds.

FOR FURTHER INFORMATION CONTACT: For information about the Fiscal Year 2013 applications and for Advanced Biofuel Payment Program assistance, please contact a USDA Rural Development Energy Coordinator, as provided in the SUPPLEMENTARY INFORMATION section of this Notice, or Lisa Noty, Energy Division, USDA Rural Development, 255 U.S. Highway 69, Garner, IA 50438. Telephone: (641) 923-3666 Extension 109. Email: lisa.noty@wdc.usda.gov.

SUPPLEMENTARY INFORMATION:

Fiscal Year 2013 Applications for the Advanced Biofuel Payment Program

An applicant (unless the applicant is an individual) must have a Dun and Bradstreet Data Universal Numbering System (DUNS) number, which can be obtained at no cost via a toll-free request line at 1-866-705-5711 or online at http://fedgov.dnb.com/webform. Complete applications must be submitted to the Rural Development State Office in the State in which the applicant's principal place of business is located.

Universal Identifier and System for Awards Management (SAM)

Unless exempt under 2 CFR 25.110, the applicant must:

(a) Be registered in the SAM prior to submitting an application or plan;

(b) Maintain an active SAM registration with current information at all times during which it has an active Federal award or an application or plan under consideration by the Agency; and

(c) Provide its DUNS number in each application or plan it submits to the Agency.

Rural Development Energy Coordinators

Note: Telephone numbers listed are not toll-free.

Alabama

Marcia Johnson, USDA Rural Development, Suite 601, Sterling Centre, 4121 Carmichael Road, Montgomery, AL 36106-3683, (334) 279-3453, marcia.johnson@al.usda.gov.

Alaska

Chad Stovall, USDA Rural Development, 800 West Evergreen, Suite 201, Palmer, AK 99645-6539, (907) 761-7718, chad.stovall@ak.usda.gov.

American Samoa (See Hawaii)

Arizona

Gary Mack, USDA Rural Development, 230 North First Avenue, Suite 206, Phoenix, AZ 85003-1706, (602) 280-8717, gary.mack@az.usda.gov.

Arkansas

Laura Tucker, USDA Rural Development, 700 West Capitol Avenue, Room 3416, Little Rock, AR 72201-3225, (501) 301-3280, laura.tucker@ar.usda.gov.

California

Steven Nicholls, USDA Rural Development, 430 G Street, #4169, Davis, CA 95616, (530) 792-5805, steven.nicholls@ca.usda.gov.

Colorado

Janice Pond, USDA Rural Development, Denver Federal Center, Building 56, Room 2300, P.O. Box 25426, Denver, CO 80225-0426, (720) 544-2907, janice.pond@co.usda.gov.

Commonwealth of the Northern Marianas Islands-CNMI (See Hawaii)

Connecticut (see Massachusetts)

Delaware/Maryland

Bruce Weaver, USDA Rural Development, 1221 College Park Drive, Suite 200, Dover, DE 19904, (302) 857-3629, bruce.weaver@de.usda.gov.

Federated States of Micronesia (See Hawaii)

Florida/Virgin Islands

Angela Prioleau, USDA Rural Development, 4440 NW., 25th Place, Gainesville, FL 32606, (352) 338-3412, angela.prioleua@fl.usda.gov.

Georgia

J. Craig Scroggs, USDA Rural Development, 111 E. Spring St., Suite B, Monroe, GA 30655, (770) 267-1413, ext. 113, craig.scroggs@ga.usda.gov.

Guam (See Hawaii)

Hawaii/Guam/Republic of Palau/Federated States of Micronesia/Republic of the Marshall Islands/American Samoa/Commonwealth of the Northern Marianas Islands-CNMI

Hawaii

Tim O'Connell, USDA Rural Development, Federal Building, Room 311, 154 Waianuenue Avenue, Hilo, HI 96720, (808) 933-8313, tim.oconnell@hi.usda.gov.

Idaho

Brian Buch, USDA Rural Development, 9173 W. Barnes Drive, Suite A1, Boise, ID 83709, (208) 378-5623, brian.buch@id.usda.gov.

Illinois

Mary Warren, USDA Rural Development, 2118 West Park Court, Suite A, Champaign, IL 61821, (217) 403-6218, mary.warren@il.usda.gov.

Indiana

Jerry Hay, USDA Rural Development, 5975 Lakeside Boulevard, Indianapolis, IN 46278, (812) 346-3411, ext. 126, jerry.hay@in.usda.gov.

Iowa

Kate Sand, USDA Rural Development, 909 E. 2nd Avenue, Suite C, Indianola, IA 50125, (515) 961-5365, ext.130, kate.sand@ia.usda.gov.

Kansas

David Kramer, USDA Rural Development, 1303 SW First American Place, Suite 100, Topeka, KS 66604-4040, (785) 271-2736, david.kramer@ks.usda.gov.

Kentucky

Scott Maas, USDA Rural Development, 771 Corporate Drive, Suite 200, Lexington, KY 40503, (859) 224-7435, scott.maas@ky.usda.gov.

Louisiana

Kevin Boone, USDA Rural Development, 905 Jefferson Street, Suite 320, Lafayette, LA 70501, (337) 262-6601, ext. 133, kevin.boone@la.usda.gov.

Maine

Beverly Stone, USDA Rural Development, 967 Illinois Avenue, Suite 4, Bangor, ME 04401-2767, (207) 990-9168, beverly.stone@me.usda.gov.

Maryland (see Delaware)

Massachusetts/Rhode Island/Connecticut

Anne Correia, USDA Rural Development, 15 Cranberry Highway, West Wareham, MA 01002, (508) 295-5151, ext. 3, anne.correia@ma.usda.gov.

Michigan

Rick Vanderbeek, USDA Rural Development, 3001 Coolidge Road, Suite 200, East Lansing, MI 48823, (517) 324-5157, rick.vanderbeek@mi.usda.gov.

Minnesota

Ron Omann, USDA Rural Development, 375 Jackson St., Suite 410, St. Paul, MN 55101, (651) 602-7796, ron.omann@mn.usda.gov.

Mississippi

G. Gary Jones, USDA Rural Development, 100 W. Capital Street, Suite 831, Jackson, MS 39269, (601) 965-5457, george.jones@ms.usda.gov.

Missouri

Matt Moore, USDA Rural Development, 601 Business Loop 70 West, Parkade Center, Suite 235, Columbia, MO 65203, (573) 876-9321, matt.moore@mo.usda.gov.

Montana

Bill Barr, USDA Rural Development, 2229 Boot Hill Court, P.O. Box 850, Bozeman, MT 59771, (406) 585-2545, bill.barr@mt.usda.gov.

Nebraska

Debra Yocum, USDA Rural Development, 100 Centennial Mall North, Room 152, Federal Building, Lincoln, NE 68508, (402) 437-5554, debra.yocum@ne.usda.gov.

Nevada

Mark Williams, USDA Rural Development, 1390 South Curry Street, Carson City, NV 89703, (775) 887-1222, ext. 116, mark.williams@nv.usda.gov.

New Hampshire (See Vermont)

New Jersey

Victoria Fekete, USDA Rural Development, 8000 Midlantic Drive, 5th Floor North, Suite 500, Mt. Laurel, NJ 08054, (856) 787-7752, victoria.fekete@nj.usda.gov.

New Mexico

Jesse Monfort Bopp, USDA Rural Development, 6200 Jefferson Street NE., Room 255, Albuquerque, NM 87109, (505) 761-4952, jesse.bopp@nm.usda.gov.

New York

Scott Collins, USDA Rural Development, 9025 River Road, Marcy, NY 13403, (315) 736-3316, ext. 4, scott.collins@ny.usda.gov.

North Carolina

David Thigpen, USDA Rural Development, 4405 Bland Rd. Suite 260, Raleigh, NC 27609, (919) 873-2065, david.thigpen@nc.usda.gov.

North Dakota

Dennis Rodin, USDA Rural Development, Federal Building, Room 208, 220 East Rosser Avenue, P.O. Box 1737, Bismarck, ND 58502-1737, (701) 530-2068, dennis.rodin@nd.usda.gov.

Ohio

Randy Monhemius, USDA Rural Development, Federal Building, Room 507, 200 North High Street, Columbus, OH 43215-2418, (614) 255-2424, randy.monhemius@oh.usda.gov.

Oklahoma

Jody Harris, USDA Rural Development, 100 USDA, Suite 108, Stillwater, OK 74074-2654, (405) 742-1036, jody.harris@ok.usda.gov.

Oregon

Don Hollis, USDA Rural Development, 200 SE Hailey Ave., Suite 105, Pendleton, OR 97801, (541) 278-8049, ext. 129, don.hollis@or.usda.gov.

Pennsylvania

Amanda Krugh, USDA Rural Development, 1 Credit Union Place, Suite 330, Harrisburg, PA 17110-2996, (717) 237-2289, amanda.krugh@pa.usda.gov.

Puerto Rico

Luis Garcia, USDA Rural Development, IBM Building, 654 Munoz Rivera Avenue, Suite 601, Hato Rey, PR 00918-6106, (787) 766-5091, ext. 251, luis.garcia@pr.usda.gov.

Republic of Palau (See Hawaii)

Republic of the Marshall Islands (See Hawaii)

Rhode Island (see Massachusetts)

South Carolina

Shannon Legree, USDA Rural Development, Strom Thurmond Federal Building, 1835 Assembly Street, Room 1007, Columbia, SC 29201, (803) 253-3150, shannon.legree@sc.usda.gov.

South Dakota

Darlene Bresson USDA Rural Development, 1720 4th Street NE., Suite 2, Watertown, SD 57201 (605) 886-8202, ext. 120, darlene.bresson@sd.usda.gov.

Tennessee

Will Dodson, USDA Rural Development, 3322 West End Avenue, Suite 300, Nashville, TN 37203-1084, (615) 783-1350, will.dodson@tn.usda.gov.

Texas

Billy Curb, USDA Rural Development, Federal Building, Suite 102, 101 South Main Street, Temple, TX 76501, (254) 742-9775, billy.curb@tx.usda.gov.

Utah

Lori Silva, USDA Rural Development, Wallace F. Bennett Federal Building, 125 South State Street, Room 4311, Salt Lake City, UT 84138, (801) 524-4323, lori.silva.mathews@ut.usda.gov.

Vermont/New Hampshire

Cheryl Ducharme, USDA Rural Development, 87 Main Street, Suite 324, P.O. Box 249, Montpelier, VT 05601, (802) 828-6083, cheryl.ducharme@vt.usda.gov.

Virginia

Laurette Tucker, USDA Rural Development, Culpeper Building, Suite 238, 1606 Santa Rosa Road, Richmond, VA 23229, (804) 287-1594, laurette.tucker@va.usda.gov.

Virgin Islands (see Florida)

Washington

Mary Traxler, USDA Rural Development, 1835 Black Lake Blvd. SW., Suite B, Olympia, WA 98512, (360) 704-7762, mary.traxler@wa.usda.gov.

West Virginia

Jesse Gandee, USDA Rural Development, 1550 Earl Core Road, Suite 101, Morgantown, WV 26505-7500, (304) 284-4882, jesse.gandee@wv.usda.gov.

Wisconsin

Brenda Heinen, USDA Rural Development, 5417 Clem's Way, Stevens Point, WI 54482, (715) 345-7615, Ext. 139, brenda.heinen@wi.usda.gov.

Wyoming

Nancy Veres, USDA Rural Development, Dick Cheney Federal Building, 100 East B Street, Room 1005, P.O. Box 11005, Casper, WY 82602, (307) 233-6710, nancy.veres@wy.usda.gov.

Paperwork Reduction Act

In accordance with the Paperwork Reduction Act of 1995, the information collection requirements associated with the Advanced Biofuel Payments Program, as covered in this Notice, have been approved by the Office of Management and Budget (OMB) under OMB Control Number 0570-0057.

Overview

Federal Agency Name: Rural Business-Cooperative Service (an agency of the United States Department of Agriculture in the Rural Development mission area).

Contract Proposal Title: Advanced Biofuel Payment Program.

Announcement Type: Annual announcement.

Catalog of Federal Domestic Assistance Number (CFDA): The CFDA number for this Notice is 10.867.

DATES: The Advanced Biofuels Program sign-up period for Fiscal Year 2013 was October 1 to October 31, 2012. In addition, applications received by July 11, 2013, will be considered for Fiscal Year 2013 funds. Producers applying after June 11, 2013 will not be paid for payment requests submitted after the payment request timeframe. Payment requests are required to be submitted in accordance with 7 CFR 4288, Subpart B, section 4288.130(d). The Biofuel Payment Program Annual Application, Form RD 4288-1, must be submitted prior to or with Advanced Biofuel Payment Program—Payment Request, Form RD 4288-3.

Availability of Notice and Rule: This Notice and the interim rule for the Advanced Biofuel Payment Program are available on the USDA Rural Development Web site at http://www.rurdev.usda.gov/BCP_Biofuels.html.

I. Funding Opportunity Description

A. Purpose of the program. The purpose of this program is to support and ensure an expanding production of advanced biofuels by providing payments to eligible advanced biofuel producers. Implementing this program not only promotes the Agency's mission of promoting sustainable economic development in rural America, but is an important part of achieving the Administration's goals for increased biofuel production and use by providing economic incentives for the production of advanced biofuels.

B. Statutory authority. This program is authorized under 7 U.S.C. 8105.

C. Definition of terms. The definitions applicable to this Notice are published at 7 CFR 4288.102.

II. Award Information

A. Available funds. The Agency is authorizing $98.6 million for this program in Fiscal Year 2013.

B. Approximate number of awards. The number of awards will depend on the number of participating advanced biofuel producers.

C. Range of amounts of each payment. There is no minimum or maximum payment amount that an individual producer can receive. The amount that each producer receives will depend on the number of eligible advanced biofuel producers participating in the program for Fiscal Year 2013, the amount of advanced biofuels being produced by such advanced biofuel producers, and the amount of funds available.

D. Contract. For producers participating in this program for the first time in Fiscal Year 2013, a contract will need to be entered into with the Agency and the contract period will continue indefinitely until terminated as provided for in 7 CFR 4288.121(d). For producers that participated in this program in Fiscal Year 2012, the contract period continues indefinitely until terminated as provided for in 7 CFR 4288.121(d).

E. Production period. Payments to participating advanced biofuel producers under this Notice will be made on actual eligible advanced biofuels produced from October 1, 2012, through September 30, 2013.

F. Type of instrument. Payment.

III. Eligibility Information

A. Eligible applicants. To be eligible for this program, an applicant must meet the eligibility requirements specified in 7 CFR 4288.110.

B. Biofuel eligibility. To be eligible for payment, an advanced biofuel must meet the eligibility requirements specified in 7 CFR 4288.111.

C. Payment eligibility. To be eligible for program payments, an advanced biofuel producer must maintain the records specified in 7 CFR 4288.113.

IV. Fiscal Year 2013 Application and Submission Information

A. Address to request applications. Annual Application, Contract, and Payment Request forms are available from the USDA Rural Development State Office, Rural Development Energy Coordinator. The list of Rural Development Energy Coordinators is provided in the SUPPLEMENTARY INFORMATION section of this Notice.

B. Content and form of submission. The enrollment provisions, including application content and form of submission, are specified in 7 CFR 4288.120 and 4288.121.

C. Submission dates and times.

(1) Enrollment. Advanced biofuel producers who expect to produce eligible advanced biofuel at any time during Fiscal Year 2013 must have enrolled in the program by the dates identified in this Notice. Applications received after the identified dates, regardless of their postmark, will not be considered by the Agency for Fiscal Year 2013 funds. Producers who participated in this Program in any previous fiscal year must submit a new application as identified above to be considered for Fiscal Year 2013 funds.

(2) Payment applications. Advanced biofuel producers must submit Form RD 4288-3, “Advanced Biofuel Payment Program—Payment Request,” for each of the four Federal fiscal quarters of Fiscal Year 2013. Each form must be submitted by 4:30 p.m. on January 31, 2013, for the first quarter; April 30, 2013, for the second quarter; July 31, 2013, for the third quarter; and October 31, 2013, for the fourth quarter. Neither complete nor incomplete payment applications received after such dates and times will be considered, regardless of the postmark on the application. If any of these deadlines falls on a weekend or a federally-observed holiday, the deadline is the next Federal business day.

D. Funding restrictions. For Fiscal Year 2013, not more than 5 percent of the funds will be made available to eligible producers with a refining capacity (as determined for the prior fiscal year) exceeding 150,000,000 gallons of a liquid advanced biofuel per year or exceeding 15,900,000 million British Thermal Units of biogas and solid advanced biofuel per year. (In calculating whether a producer meets either of these capacities, production of all advanced biofuel facilities in which the producer has 50 percent or more ownership will be totaled.) The Agency will provide payments to eligible solid advanced biofuels produced from forest biomass of not more than 5 percent of available program funds in Fiscal Year 2013. The remaining funds will be made available to all other producers.

E. Payment provisions. Fiscal Year 2013 payments will be made according to the provisions specified in 7 CFR 4288.130 through 4288.137. Producers applying after June 11, 2013 will not be paid for payment requests submitted after the payment request timeframe. Payment requests are required to be submitted in accordance with 7 CFR 4288, Subpart B, section 4288.130(d). The Biofuel Payment Program Annual Application, Form RD 4288-1, must be submitted prior to or with the Advanced Biofuel Payment Program—Payment Request, Form RD 4288-3.

V. Administration Information

A. Notice of eligibility. The provisions of 7 CFR 4288.112 apply to this Notice. These provisions include notifying an applicant determined to be eligible for participation and assigning such applicant a contract number and notifying an applicant determined to be ineligible, including the reason(s) the applicant was rejected and providing such applicant appeal rights as specified in 7 CFR 4288.103.

B. Administrative and national policy requirements.

(1) Review or appeal rights. A person may seek a review of an adverse agency decision or appeal to the National Appeals Division as provided in 7 CFR 4288.103.

(2) Compliance with other laws and regulations. The provisions of 7 CFR 4288.104 apply to this Notice, which includes requiring advanced biofuel producers to be in compliance with other applicable Federal, State, and local laws.

(3) Oversight and monitoring. The provisions of 7 CFR 4288.105 apply to this Notice, which includes the right of the Agency to verify all payment applications and subsequent payments and the requirement that each eligible advanced biofuel producer make available at one place at all reasonable times for examination by representatives of USDA, all books, papers, records, contracts, scale tickets, settlement sheets, invoices, written price quotations, and other documents related to the program that are within the control of such advanced biofuel producer for not less than 3 years from each Program payment date.

(4) Exception authority. The provisions of 7 CFR 4288.107 apply to this Notice.

(5) Unauthorized Assistance. The provision of 7 CFR 4288.135 apply to this Notice.

C. Environmental review. Rural Development's compliance with the National Environmental Policy Act of 1969 (NEPA) is implemented in its regulations at 7 CFR part 1940, subpart G. The Agency has reviewed the circumstances under which financial assistance may be provided under this Program and has determined that proposals that do not involve additional facility construction fall within the categorical exclusion from NEPA reviews provided for in 7 CFR 1940.310(c)(1). Applicants whose proposal involves additional facility construction should provide Form RD 1940-20, “Request for Environmental Information,” as part of their application. Rural Development will then determine whether the proposal is categorically excluded under 7 CFR 1940.310(c)(1) or whether additional actions are necessary to comply with 7 CFR part 1940, subpart G.

VI. Agency Contacts

For assistance on this payment program, please contact a USDA Rural Development Energy Coordinator, as provided in the SUPPLEMENTARY INFORMATION section of this Notice, or Lisa Noty, Energy Division, USDA Rural Development, 255 U.S. Highway 69, Garner, IA 50438. Telephone: (641) 923-3666 extension 109. Fax: (641) 923-3660. Email: lisa.notymailto:@wdc.usda.gov.

VII. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination, write to USDA, Assistant Secretary for Civil Rights, Office of the Assistant Secretary for Civil Rights, 1400 Independence Avenue SW., Washington, DC 20250-9410 or call toll-free at (866) 632-9992 (English) or (800) 877-8339 (TTD) or (866) 377-8642 (English Federal-relay) or (800) 845-6136 (Spanish Federal-relay). USDA is an equal opportunity provider and employer.

Dated: May 30, 2013.
Lillian E. Salerno,
Acting Administrator, Rural Business-Cooperative Service.

[FR Doc. 2013-13778 Filed 6-10-13; 8:45 am]

BILLING CODE 3410-XY-P